DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Submission of Conservation Efforts to Make Listings Unnecessary under the Endangered Species Act under the Policy for Evaluation of Conservation Efforts when Making Listing Decisions.

OMB Control Number: 0648-0466.

Form Number(s): None.

Type of Request: Regular (extension of a currently approved information collection).

Number of Respondents: 3.

Average Hours per Response: 2,500 hours per agreement or plan; 320 hours to conduct monitoring for successful agreements; and 80 hours to prepare a report for successful agreements.

Burden Hours: 3,300.

Needs and Uses: This request is for extension of a currently approved information collection.

On March 28, 2003, the National Marine Fisheries Service (NMFS) and the U.S. Fish and Wildlife Service (Services) announced a final policy on the criteria the Services will use to evaluate conservation efforts by states and other non-Federal entities (68 FR 15100). The Services take these efforts into account when making decisions on whether to list a species as threatened or endangered under the Endangered Species Act. The efforts usually involve the development of a conservation plan or agreement, procedures for monitoring the effectiveness of the plan or agreement, and an annual report.

Affected Public: State, local or tribal government; business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 7, 2015.
Sarah Brabson,
NOAA PRA Clearance Officer.

[FR Doc. 2015-16872 Filed 7-9-15; 8:45 am]

BILLING CODE 3510-22-P